DEPARTMENT OF THE TREASURY

Submission for OMB Review; Comment Request

February 17, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

Dates: Written comments should be received on or before March 25, 2004 to be assured of consideration.

Internal Revenue Service (IRS)

OMB Number: 1545-1316.

Form Number: IRS Form 9452.

Type of Review: Extension.

Title: Filing Assistance Program (Do you have to file a tax return?).

Description: The RUF (Reduce Unnecessary Filing) Program was initiated in 1992. Each year approximately 72% of the taxpayers contacted through the RUF Program stop filing unnecessary returns. This has reduced taxpayer burden and been cost effective for the service. This is in accord with the Service's compliance initiatives.

Respondents: Individuals or households.

Estimated Number of Respondents: 1,650,000.

Estimated Burden Hours Respondent: 30 minutes.

Frequency of Response: Annually.

Estimated Total Reporting Burden: 825,000 hours.

OMB Number: 1545-1565.

Notice Number: Notice 97-64.

Type of Review: Extension.

Title: Temporary Regulations to be Issued under section 1(h) of the Internal Revenue Code (Applying section 1(h) to Capital Gain Dividends of Regulated Investment Companies (RICs) and Real Estate Investment Trusts (REITs)).

Description: Notice 97-64 provides notice of forthcoming temporary regulations that will permit Regulated Investment Companies (RICs) and Real Estate Investment Trusts (REITs) to distribute multiple classes of capital gain dividends.

Respondents: Business or other for-profit, Individuals or households.

Estimated Number of Respondents: 1.

Estimated Burden Hours Respondent: 1.

Frequency of Response: Other (once).

Estimated Total Reporting Burden: 1 hour.

OMB Number: 1545-1568.

Announcement Number: Announcement 97-122.

Type of Review: Extension.

Title: Interim Guidance for Roth IRAs.

Description: This announcement provides interim guidance concerning the establishment of Roth IRAs (described in section 408A of the Internal Revenue Code as added by section 302 of the Taxpayer Relief Act of 1997). The guidance is directed mainly at banks, etc., that will market prototype Roth IRAs to the public.

Respondents: Business or other for-profit, Not-for-profit institutions.

Estimated Number of Respondents: 4,000.

Estimated Burden Hours Respondent: 2 hours.

Frequency of Response: On occasion.

Estimated Total Reporting Burden: 8,000 hours.

OMB Number: 1545-1813.

Form Number: IRS Form 1099-H.

Type of Review: Extension.

Title: Health Coverage Tax Credit (HCTC) Advance Payments.

Description: Form 1099-H is used to report advance payments of health insurance premiums to qualified recipients for their use in computing the allowable health insurance credit on Form 8885.

Respondents: Business or other for-profit.

Estimated Number of Respondents/Recordkeepers: 300.

Estimated Burden Hours Respondent/Recordkeeper: 18 minutes.

Frequency of Response: Annually.

Estimated Total Reporting Burden: 33,000 hours.

OMB Number: 1545-1865.

Notice Number: Notice 2003-75.

Type of Review: Extension.

Title: Registered Retirement Savings Plans (RRSP) and Registered Retirement Income Funds (RRIF) Information Reporting.

Description: This notice announces an alternative, simplified reporting regime for the owners of certain Canadian individual retirement plans that have been subject to reporting on Forms 3520 and 3520-A, and it describes the interim reporting rules that taxpayers must follow until a new form is available.

Respondents: Individuals or households.

Estimated Number of Respondents: 750,000.

Estimated Burden Hours Respondent: 2 hours.

Frequency of Response: Annually.

Estimated Total Reporting Burden: 1,500,000 hours.

Clearance Officer: Glenn P. Kirkland, (202) 622-3428, Internal Revenue Service, Room 6411-03, 1111 Constitution Avenue, NW, Washington, DC 20224.

OMB Reviewer: Joseph F. Lackey, Jr., (202) 395-7316, Office of Management and Budget, Room 10235, New Executive Office Building, Washington, DC 20503.

Lois K. Holland,
Treasury PRA Clearance Officer.

[FR Doc. 04-3950 Filed 2-23-04; 8:45 am]

BILLING CODE 4830-01-P